DEPARTMENT OF TRANSPORTATION

Federal Aviation Administration

14 CFR Part 97

[Docket No. 31143; Amdt. No. 3755]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 2, 2017. The compliance date for each SIAP, associated Takeoff Minimums, and ODP is specified in the amendatory provisions.

The incorporation by reference of certain publications listed in the regulations is approved by the Director of the Federal Register as of August 2, 2017.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on June 30, 2017.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 17 August 2017

Barrow, AK, Wiley Post-Will Rogers Memorial, ILS OR LOC RWY 7, Amdt 1

Barrow, AK, Wiley Post-Will Rogers Memorial, LOC BC RWY 25, Amdt 1

Barrow, AK, Wiley Post-Will Rogers Memorial, VOR RWY 25, Amdt 1

Dillingham, AK, Dillingham, LOC RWY 19, Amdt 7

Dillingham, AK, Dillingham, RNAV (GPS) RWY 19, Amdt 3

Wainwright, AK, Wainwright, NDB RWY 5, Amdt 1A, CANCELED

Wainwright, AK, Wainwright, NDB RWY 23, Amdt 1, CANCELED

Anniston, AL, Anniston Rgnl, Takeoff Minimums and Obstacle DP, Amdt 7

Corning, AR, Corning Muni, RNAV (GPS) RWY 18, Orig-B

Corning, AR, Corning Muni, RNAV (GPS) RWY 36, Orig-B

Corning, AR, Corning Muni, VOR-A, Amdt 2B

Magnolia, AR, Ralph C Weiser Field, RNAV (GPS) RWY 18, Orig-A

Magnolia, AR, Ralph C Weiser Field, RNAV (GPS) RWY 36, Amdt 1A

Arcata/Eureka, CA, California Redwood Coast—Humboldt County, Takeoff Minimums and Obstacle DP, Amdt 8

Ontario, CA, Ontario Intl, ILS OR LOC RWY 26L, ILS RWY 26L (CAT II), ILS RWY 26L (CAT III), Amdt 8

Ontario, CA, Ontario Intl, ILS OR LOC RWY 26R, Amdt 5

Vacaville, CA, Nut Tree, Takeoff Minimums and Obstacle DP, Amdt 5

Immokalee, FL, Immokalee Rgnl, RNAV (GPS) RWY 9, Amdt 1

Immokalee, FL, Immokalee Rgnl, RNAV (GPS) RWY 18, Amdt 1

Immokalee, FL, Immokalee Rgnl, RNAV (GPS) RWY 27, Amdt 1

Immokalee, FL, Immokalee Rgnl, RNAV (GPS) RWY 36, Amdt 1

Immokalee, FL, Immokalee Rgnl, Takeoff Minimums and Obstacle DP, Amdt 2

Immokalee, FL, Immokalee Rgnl, VOR RWY 18, Amdt 7

West Palm Beach, FL, Palm Beach Intl, RNAV (GPS) X RWY 28R, Orig-A

Fort Stewart (Hinesville), GA, Wright AAF (Fort Stewart)/Midcoast Rgnl, RNAV (GPS) RWY 33R, Amdt 1

Macon, GA, Middle Georgia Rgnl, ILS OR LOC RWY 5, ILS RWY 5 (SA CAT I), ILS RWY 5 (SA CAT II), Amdt 3

Macon, GA, Middle Georgia Rgnl, RNAV (GPS) RWY 5, Amdt 3

Caldwell, ID, Caldwell Industrial, NDB RWY 30, Amdt 1B, CANCELED

Mc Call, ID, Mc Call Muni, PEPUC TWO, Graphic DP

Peoria, IL, General Downing—Peoria Intl, ILS OR LOC RWY 4, ILS RWY 4 (SA CAT I), ILS RWY 4 (SA CAT II), Amdt 3

Indianapolis, IN, Indianapolis Rgnl, ILS OR LOC RWY 25, Amdt 3

Gonzales, LA, Louisiana Rgnl, RNAV (GPS) RWY 35, Orig

Gaithersburg, MD, Montgomery County Airpark, VOR RWY 14, Amdt 3A, CANCELED

Indian Head, MD, Maryland, RNAV (GPS) RWY 2, Amdt 1A

Berrien Springs, MI, Andrews University Airpark, RNAV (GPS) RWY 13, Orig

Berrien Springs, MI, Andrews University Airpark, RNAV (GPS) RWY 31, Orig

Berrien Springs, MI, Andrews University Airpark, VOR-A, Orig, CANCELED

Minneapolis, MN, Anoka County-Blaine (Janes Field), ILS OR LOC RWY 27, Orig-B

Minneapolis, MN, Anoka County-Blaine (Janes Field), RNAV (GPS) RWY 9, Orig-E

Minneapolis, MN, Anoka County-Blaine (Janes Field), RNAV (GPS) RWY 18, Orig-E

Minneapolis, MN, Anoka County-Blaine (Janes Field), RNAV (GPS) RWY 27, Orig-C

Minneapolis, MN, Anoka County-Blaine (Janes Field), Takeoff Minimums and Obstacle DP, Amdt 5B

Minneapolis, MN, Anoka County-Blaine (Janes Field), VOR RWY 9, Amdt 12C

Walker, MN, Walker Muni, RNAV (GPS) RWY 15, Amdt 2

Walker, MN, Walker Muni, RNAV (GPS) RWY 33, Amdt 2

Kansas City, MO, Charles B Wheeler Downtown, ILS OR LOC RWY 3, Amdt 5

Kansas City, MO, Charles B Wheeler Downtown, ILS OR LOC RWY 19, Amdt 24

Kansas City, MO, Charles B Wheeler Downtown, RNAV (GPS) RWY 3, Amdt 3

Kansas City, MO, Charles B Wheeler Downtown, RNAV (GPS) RWY 19, Amdt 1

Kansas City, MO, Charles B Wheeler Downtown, RNAV (GPS) RWY 21, Amdt 2

Kansas City, MO, Charles B Wheeler Downtown, Takeoff Minimums and Obstacle DP, Amdt 4

St Louis, MO, St Louis Lambert Intl, ILS OR LOC RWY 6, Amdt 1F

St Louis, MO, St Louis Lambert Intl, ILS OR LOC RWY 11, ILS RWY 11 (CAT II), ILS RWY 11 (CAT III), Orig-D

St Louis, MO, St Louis Lambert Intl, ILS OR LOC RWY 12L, ILS RWY 12L (CAT II), ILS RWY 12L (CAT III), Amdt 6B

St Louis, MO, St Louis Lambert Intl, ILS OR LOC RWY 24, Amdt 46B

St Louis, MO, St Louis Lambert Intl, ILS OR LOC RWY 29, Amdt 1D

St Louis, MO, St Louis Lambert Intl, ILS OR LOC RWY 30R, ILS RWY 30R (CAT II), ILS RWY 30R (CAT III), Amdt 10C

St Louis, MO, St Louis Lambert Intl, RNAV (GPS) RWY 6, Amdt 1C

St Louis, MO, St Louis Lambert Intl, RNAV (GPS) RWY 24, Amdt 1C

St Louis, MO, St Louis Lambert Intl, RNAV (GPS) Y RWY 11, Orig-C

St Louis, MO, St Louis Lambert Intl, RNAV (GPS) Y RWY 12L, Amdt 2C

St Louis, MO, St Louis Lambert Intl, RNAV (GPS) Y RWY 29, Orig-D

St Louis, MO, St Louis Lambert Intl, RNAV (GPS) Y RWY 30R, Amdt 1E

St Louis, MO, St Louis Lambert Intl, RNAV (RNP) Z RWY 11, Orig-B

St Louis, MO, St Louis Lambert Intl, RNAV (RNP) Z RWY 12L, Orig-B

St Louis, MO, St Louis Lambert Intl, RNAV (RNP) Z RWY 29, Orig-B

St Louis, MO, St Louis Lambert Intl, RNAV (RNP) Z RWY 30R, Orig-B

Wilmington, NC, Wilmington Intl, ILS Y OR LOC RWY 6, Amdt 2B

Wilmington, NC, Wilmington Intl, ILS Y OR LOC RWY 24, ILS Y RWY 24 (SA CAT I), ILS Y RWY 24 (SA CAT II), Amdt 2

Wilmington, NC, Wilmington Intl, ILS Y OR LOC RWY 35, Amdt 22C

Wilmington, NC, Wilmington Intl, ILS Z RWY 6, Orig-B

Wilmington, NC, Wilmington Intl, ILS Z RWY 24, Amdt 1

Wilmington, NC, Wilmington Intl, ILS Z RWY 35, Orig-B

Wilmington, NC, Wilmington Intl, RADAR-1, Amdt 7A

Wilmington, NC, Wilmington Intl, RNAV (GPS) RWY 6, AMDT 3B

Wilmington, NC, Wilmington Intl, RNAV (GPS) RWY 17, Amdt 4A

Wilmington, NC, Wilmington Intl, RNAV (GPS) RWY 24, Amdt 3

Wilmington, NC, Wilmington Intl, RNAV (GPS) RWY 35, Amdt 3C

Manchester, NH, Manchester, Takeoff Minimums and Obstacle DP, Amdt 10A

Cushing, OK, Cushing Muni, RNAV (GPS) RWY 18, Orig

Cushing, OK, Cushing Muni, RNAV (GPS) RWY 36, Amdt 2

Orangeburg, SC, Orangeburg Muni, RNAV (GPS) RWY 35, Amdt 1B

Beeville, TX, Chase Field Industrial, RNAV (GPS) RWY 13, Orig

Beeville, TX, Chase Field Industrial, RNAV (GPS) RWY 31, Orig

Beeville, TX, Chase Field Industrial, Takeoff Minimums and Obstacle DP, Orig

Falfurrias, TX, Brooks County, RNAV (GPS) RWY 17, Amdt 1

Falfurrias, TX, Brooks County, RNAV (GPS) RWY 35, Amdt 1

Houston, TX, George Bush Intercontinental/Houston, ILS OR LOC RWY 8L, ILS RWY 8L (CAT II), ILS RWY 8L (CAT III), ILS RWY 8L (SA CAT I), Amdt 4C

Tangier, VA, Tangier Island, VOR/DME-A, Orig, SUSPENDED

Morrisville, VT, Morrisville-Stowe State, RNAV (GPS)-A, Orig

Fairmont, WV, Fairmont Muni-Frankman Field, RNAV (GPS) RWY 23, Amdt 1B

Fairmont, WV, Fairmont Muni-Frankman Field, VOR-A, Amdt 1A

Wheeling, WV, Wheeling Ohio Co, ILS OR LOC RWY 3, Amdt 23

Wheeling, WV, Wheeling Ohio Co, RNAV (GPS) RWY 3, Amdt 1

Wheeling, WV, Wheeling Ohio Co, RNAV (GPS) RWY 16, Amdt 1

Wheeling, WV, Wheeling Ohio Co, RNAV (GPS) RWY 21, Amdt 1

Wheeling, WV, Wheeling Ohio Co, RNAV (GPS) RWY 34, Amdt 1

Wheeling, WV, Wheeling Ohio Co, VOR RWY 21, Amdt 16

[FR Doc. 2017-16104 Filed 8-1-17; 8:45 am]

BILLING CODE 4910-13-P